DEPARTMENT OF ENERGY

Notice of Cancellation of Environmental Impact Statement for the Clean Power From Integrated Coal/Ore Reduction (CPICOR) Project

AGENCY: Department of Energy.

ACTION: Notice of cancellation of Environmental Impact Statement process.

SUMMARY: The Department of Energy (DOE) is canceling the preparation of an Environmental Impact Statement (EIS) for a proposal by Geneva Steel Company to design, construct, and operate a project known as the Clean Power from Integrated Coal/Ore Reduction (CPICOR) Project near Provo, Utah. DOE selected Geneva Steel Company's proposal for further consideration under DOE's Clean Coal Technology Demonstration Program competitive solicitation. Geneva Steel proposed constructing the demonstration project at the site of its existing steel-making operations in Provo, Utah. The proposed CPICOR project was intended to demonstrate advanced circulating fluidized bed combustion technologies using a variety of low and high sulfur coal to produce electricity. DOE published a Notice of Intent to prepare an EIS for the proposal in the Federal Register on June 28, 1999 (64 FR 34640), and conducted a public scoping meeting in the Council Chambers of the Provo City Center on July 15, 1999.

The proposed project has been discontinued. As a result, DOE is canceling the EIS process.

FOR FURTHER INFORMATION CONTACT: Lloyd Lorenzi, National Energy Technology Laboratory, U.S. Department of Energy, P.O. Box 10940, Pittsburgh, PA 15236-0940, telephone 412-386-6159, or electronic mail at lorenzi@netl.doe.gov.

Issued in Morgantown, WV, on this 15th day of September 2004.
Ralph Carabetta,
Deputy Director, National Energy Technology Laboratory.

[FR Doc. 04-23917 Filed 10-25-04; 8:45 am]

BILLING CODE 6450-01-P